FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Recordkeeping and Disclosure Requirements Associated with Regulation CC (FR CC; OMB No. 7100-0235).

DATES: The information collection revisions are effective on December 17, 2025.

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR CC.

Final Approval Under OMB Delegated Authority of the Extension for Three Years, With Revision, of the Following Information Collection

Collection title: Recordkeeping and Disclosure Requirements Associated with Regulation CC. Collection identifier: FR CC.

OMB control number: 7100-0235.

General description of collection: Regulation CC requires banks to make funds deposited in transaction accounts available within specified time periods, disclose their funds availability policies to customers, begin accruing interest on such deposits promptly, and provide certain notices in connection with the nonpayment of certain checks. Regulation CC also requires banks to provide consumer awareness disclosures and other notices regarding substitute checks. Regulation CC includes model disclosure forms, clauses, notices, and commentary to ease compliance with these requirements.

Frequency: Event-generated.

Respondents: State member banks and uninsured state branches and agencies of foreign banks.

Total estimated number of respondents: 668 (except for Special deposit slip and Notice of changes in policy, 100).

Total estimated change in burden: 25.

Total estimated annual burden hours: 134,352.

Current actions: On April 30, 2025, the Board published a notice in the Federal Register (90 FR 17932) requesting public comment for 60 days on the extension, with revision, of the FR CC. The Board proposed to take into account certain existing provisions in Regulation CC that include information collections, but had not been included in previous clearances. The comment period for this notice expired on June 30, 2025. The Board did not receive any comments relevant to this collection or the PRA. The revisions will be implemented as proposed.

Board of Governors of the Federal Reserve System, October 9, 2025.
Erin M. Cayce,
Assistant Secretary of the Board.

[FR Doc. 2025-19932 Filed 11-14-25; 8:45 am]

BILLING CODE 6210-01-P